FEDERAL COMMUNICATIONS COMMISSION

Notice of Public Information Collection(s) Being Reviewed by the Federal Communications Commission for Extension Under Delegated Authority

January 13, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by March 22, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the internet to Judith-B.Herman@fcc.gov.

FOR FURTHER INFORMATION CONTACT: For additional information or copies of the information collections contact Judith B. Herman at 202-418-0214 or via the internet at Judith-B.Herman@fcc.gov.

SUPPLEMENTARY INFORMATION: OMB Control No.: 3060-0658.

Title: Section 27.1213, Designated Entity Provisions of Broadband Radio Service (BRS), (formerly Multipoint Distribution Service).

Form No.: N/A.

Type of Review: Extension of a currently approved collection.

Respondents: Business or other for profit.

Number of Respondents: 60.

Estimated Time Per Response: 1 hour.

Frequency of Response: On occasion reporting requirement and recordkeeping requirement.

Total Annual Burden: 60 hours.

Annual Cost Burden: $4,000.

Privacy Act Impact Assessment: N/A.

Needs and Uses: The Commission has changed the rule section number from 21.960 to 27.1213. Additionally, Multipoint Distribution Service is now described as Broadband Radio Service (BRS). This rule section requires winning bidders who are designated entities (small businesses) to file with its long-form application or statement of intention an exhibit which includes eligibility requirements. This exhibit should also list and summarize all agreements that affect designated entity status. The recordkeeping requirement and audit provisions of section 27.1213(f) and (g) are necessary to prevent abuse of the special measures offered to those BRS auction winners claiming designated entity status. The Commission is requesting extension (no material change) to this information collection.

OMB Control No.: 3060-0998.

Title: Section 87.109, Station Logs.

Form No.: N/A.

Type of Review: Extension of a currently approved collection.

Respondents: Business or other for-profit entities.

Number of Respondents: 3.

Estimated Time Per Response: 100 hours.

Frequency of Response: Recordkeeping requirement.

Total Annual Burden: 300 hours.

Annual Cost Burden: N/A.

Privacy Act Impact Assessment: N/A.

Needs and Uses: The rule section is necessary to require each fixed station in the International Aeronautical Mobile Service (IAMS) to maintain a written or automatic log in accordance with the provisions of the International Civil Aviation Organization (ICAO) Convention. The log is necessary to document the service fixed stations, including the harmful interference, equipment failure, and logging of distress and safety calls where applicable. The information is used by the Commission during inspections and investigations to insure the particular station is licensed and operated in compliance with applicable rules, statutes, and treaties. If the information were not collected, documentation concerning station operations would not be available, and the fixed stations in the IAMS can not comply with treaty requirements.

Federal Communications Commission.
Marlene H. Dortch,
Secretary.

[FR Doc. 05-1155 Filed 1-19-05; 8:45 am]

BILLING CODE 6712-01-P